DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Chicago, IL. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before December 5, 2014.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Washington/Wabash Loop Elevated Station Project, Chicago, IL. Project sponsor: City of Chicago Department of Transportation (CDOT). Project description: The proposed project would replace two existing stations on the east leg of the Loop Elevated at Randolph/Wabash and Madison/Wabash by constructing a new station within limits that extend along North Wabash Avenue, from East Washington Street to 150 feet South of East Madison Street. The new station would improve service for people with disabilities, provide greater passenger capacity, and modernize station amenities. Final agency actions: Section 4(f) determination; Section 106 finding of no adverse effect; project-level air quality conformity; and Finding of No Significant Impact (FONSI), dated June 6, 2014. Supporting documentation: Environmental Assessment, dated February 2014.

2. Project name and location: Wilson Transfer Station Project, Chicago, IL. Project sponsor: Chicago Transit Authority (CTA). Project description: The proposed project would replace the outdated and deteriorated current Wilson Station on CTA's Red Line with a new, reconstructed station that offers longer and wider platforms to allow transfers between the Red and Purple Lines and would improve capacity, circulation, and safety in the passenger boarding areas. Final agency actions: Section 4(f) determination; a Section 106 Memorandum of Agreement; project-level air quality conformity; and Finding of No Significant Impact (FONSI), dated June 10, 2014. Supporting documentation: Environmental Assessment, dated January 2014.

Lucy Garliauskas,
Associate Administrator Planning and Environment.

[FR Doc. 2014-15898 Filed 7-7-14; 8:45 am]

BILLING CODE P